FEDERAL MINE SAFETY AND HEALTH REVIEW COMMISSION

[BAC 6735-01]

Sunshine Act Notice

September 29, 2015.

TIME AND DATE: 3:00 p.m., Thursday, October 8, 2015.

PLACE: The Richard V. Backley Hearing Room, Room 511N, 1331 Pennsylvania Avenue NW., Washington, DC 20004 (enter from F Street entrance).

STATUS: Open.

MATTERS TO BE CONSIDERED: The Commission will consider and act upon the following in open session: Secretary of Labor v. Warrior Coal, LLC, Docket Nos. KENT 2011-1259-R, et al. (Issues include whether the Administrative Law Judge erred in concluding that MSHA was authorized to require that the operator provide it with private contact information for every mine employee.)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

Sarah L. Stewart,
Deputy General Counsel.

[FR Doc. 2015-25080 Filed 9-29-15; 4:15 pm]

BILLING CODE 6735-01-P